DEPARTMENT OF ENERGY

Federal Energy Regulatory Commission

[Project 2629-014]

Village of Morrisville, Vermont; Notice of Application Tendered for Filing With the Commission and Establishing Procedural Schedule for Licensing and Deadline for Submission of Final Amendments

Take notice that the following hydroelectric application has been filed with the Commission and is available for public inspection.

a. Type of Application: New Major License.

b. Project No.: 2629-014.

c. Date Filed: April 25, 2013.

d. Applicant: Village of Morrisville, Vermont (Morrisville).

e. Name of Project: Morrisville Hydroelectric Project.

f. Location: On the Green River, Elmore Pond Brook, and Lamoille River, in Lamoille County, Vermont. The project does not occupy any federal lands.

g. Filed Pursuant to: Federal Power Act, 16 U.S.C. 791(a)-825(r).

h. Applicant Contact: Craig Myotte, Village of Morrisville, Water & Light Department, P.O. Box 460—857 Elmore Street, Morrisville, Vermont, 05661-0460; (802) 888-6521 or cmyotte@mwlvt.com.

i. FERC Contact: Steve Kartalia, (202) 502-6131 or stephen.kartalia@ferc.gov.

j. This application is not ready for environmental analysis at this time.

k. The Project Description: The existing Morrisville Hydroelectric Project consists of four developments with a total installed capacity of 4,990 kilowatts (kW). The project's average annual generation is 9,032,221 kilowatt-hours. The power generated by the Morrisville Project is used by Morrisville to meet the power needs of its regional retail customers within the Village of Morrisville and surrounding communities.

Green River Development

The existing Green River Development is located on the Green River and consists of: (1) A 360-foot-long, 105-foot-high concrete arch dam that includes, near its center, a 60-foot-long ungated spillway with a crest elevation of 1,220 feet above mean sea level (msl); (2) a 45-foot-long, 15-foot-high concrete gravity weir that creates a 180-foot-long, 11-foot-deep stilling pool downstream of the concrete arch dam; (3) a 200-foot-long, 16-foot-high earthen embankment with 2-foot-high wooden wave barriers approximately 1.25 miles southeast of the concrete arch dam; (4) a 690-acre impoundment with a storage capacity of 17,400-acre-feet and a normal maximum elevation of 1,220 feet msl; (5) a 16-foot-long, 12-foot-high gated intake structure; (6) a 22-foot-long, 16-foot-wide intake-valve house and a 14-foot-long, 13-foot-wide outlet-valve house; (7) a 116-foot-long penstock, that includes a 6-foot-diameter, 94.5-foot-long buried, steel section that bifurcates into two 3-foot-diameter, 21.5-foot-long steel sections; (8) a 32-foot-long, 37-foot-wide concrete powerhouse containing two 945-kW turbine-generator units for a total installed capacity of 1,890 kW; (9) a 14.5-foot-long, concrete tailrace; (10) a 5-mile-long, 34.5-kilovolt (kV) transmission line connecting the powerhouse to the regional grid; and (11) appurtenant facilities.

The Green River Development bypasses approximately 180 feet of the Green River, including the stilling pool.

Lake Elmore Development

The existing Lake Elmore Development is located on Elmore Pond Brook and consists of: (1) A 26-foot-long, 10-foot-high concrete gravity dam and spillway with a crest elevation of 1,139 feet msl; (2) a 300-acre impoundment (Lake Elmore) with a 1,000-acre-foot storage capacity and a normal maximum water surface elevation of 1,139 feet msl; (3) a 8.5-foot-long, 7.5-foot-wide gatehouse; (4) a 8.3-foot-long, 3.5-foot-high gated intake structure; (5) a 2.5-foot-long concrete-lined tailrace; and (6) appurtenant facilities.

Morrisville Development

The existing Morrisville Development is located on the Lamoille River and consists of: (1) A 384-foot-long, 37-foot-high concrete gravity dam comprised of a 138-foot-long concrete retaining wall, a 30-foot-long intake and gatehouse section, and a 216-foot-long spillway with two 108-foot-long, 4-foot-high Obermeyer inflatable crest gates and a crest elevation of 627.79 feet msl; (2) a 141-foot-long, 8-foot-high concrete wall approximately 260 feet northwest of the dam that includes a 60-foot-long overflow section (back spillway) with 2-foot-high wooden flashboards ; (3) a 15-acre impoundment with a 72-acre-foot storage capacity and a normal maximum water surface elevation of 631.79 feet msl; (4) a 28-foot-long, 36-foot-wide gatehouse; (5) a 30-foot-long, 16-foot-high gated intake structure; (6) one 7-foot-diameter, 150-foot-long buried steel penstock and one 10-foot-diameter, 150-foot-long buried, steel penstock; (7) a 54.5-foot-long, 30.5-foot-wide concrete-brick powerhouse containing a 600-kW turbine-generator unit and a 1,200-kW turbine-generator unit for a total installed capacity of 1,800 kW; (8) one 17.5-foot-long concrete-lined tailrace and one 14.0-foot-long concrete-lined tailrace; (9) a 435-foot-long, 34.5-kV transmission line connecting the powerhouse to the regional grid; and (10) appurtenant facilities.

The Morrisville Development bypasses approximately 380 feet of the Lamoille River.

Cadys Falls Development

The existing Cadys Falls Development is located on the Lamoille River approximately 1 mile downstream of the Morrisville Development and consists of: (1) A 364-foot-long, 41-foot-high concrete gravity dam comprised of a 23-foot-long embankment section, a 186-foot-long spillway section with 3.5-foot-high wooden flashboards and a crest elevation of 576.89 feet msl, a 60-foot-long intake and gatehouse section, and a 95-foot-long non-overflow section; (2) a 150-acre impoundment (Lake Lamoille) with a 72-acre-foot storage capacity and a normal maximum water surface elevation of 580.39 feet msl; (3) a 29-foot-long, 40-foot-wide gatehouse; (4) an 18.0-foot-long, 9.2-foot-high gated intake structure; (5) a buried, steel penstock that includes a 7-foot-diameter, 1,110-foot-long section leading to a 35.6-foot-high, 29.7-foot-diameter concrete surge tank and bifurcating into a 90-foot-long, 8-foot-diameter section and a 30-foot-long, 9-foot-diameter section; (6) a 96-foot-long, 46-foot-wide concrete-brick powerhouse containing a 600-kW turbine-generator unit and a 700-kW turbine-generator unit for a total installed capacity of 1,300 kW; (7) a 12-foot-long concrete-lined tailrace; (8) a 150-foot-long, 34.5-kV transmission line connecting the powerhouse to the regional grid; and (9) appurtenant facilities.

The Cadys Falls Development bypasses approximately 1,690 feet of the Lamoille River.

The Green River and Lake Elmore developments are operated in seasonal store and release mode and the Morrisville and Cadys Falls developments are operated in run-of-river mode. The existing license requires instantaneous minimum flows of 5.5 cubic feet per second (cfs) in the tailrace of the Green River Development; 135 cfs and 12 cfs in the tailrace and bypassed reach of the Morrisville Development, respectively; and 150 cfs in the tailrace of the Cadys Falls Development. Morrisville proposes to maintain existing project operations and provide additional minimum flows of 4 cfs over the back spillway at the Morrisville Development and 12 cfs in the bypassed reach at the Cadys Falls Development. Morrisville also proposes to remove the Lake Elmore Development from the project and remove a 0.4-acre parcel of property at the Morrisville Development from the project boundary.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | June 2013.
Filing of recommendations, preliminary terms and conditions, and fishway prescriptions | August 2013.
Commission issues Non-Draft EA | December 2013.
Comments on EA | January 2014.
Modified terms and conditions | March 2014.

o. Final amendments to the application must be filed with the Commission no later than 30 days from the issuance date of the notice of ready for environmental analysis.

Dated: May 8, 2013.
Kimberly D. Bose,
Secretary.

[FR Doc. 2013-11640 Filed 5-15-13; 8:45 am]

BILLING CODE 6717-01-P